DEPARTMENT OF THE INTERIOR

Bureau of Land Management

[ES-956-1420-BJ]

Florida; Eastern States: Filing of Supplemental Plat of Survey

AGENCY: Bureau of Land Management, Interior.

ACTION: Notice of Filing of Supplemental Plat; Florida.

SUMMARY: The Bureau of Land Management (BLM) will file the supplemental plat of survey of the lands described below in the BLM-Eastern States, Springfield, Virginia, 30 calendar days from the date of publication in the Federal Register.

FOR FURTHER INFORMATION CONTACT: Bureau of Land Management, 7450 Boston Boulevard, Springfield, Virginia 22153.

SUPPLEMENTARY INFORMATION: This survey was requested by the Bureau of Land Management-Eastern States, Branch of Lands and Realty.

The lands shown on the plat are:

Tallahassee Meridian, Florida

T. 6 S., R. 15 E.

The supplemental plat identifies an unlotted parcel of land in the NW 1/4 of Section 26 of Township 6 South, Range 15 East, of the Tallahassee Meridian, in the State of Florida, as shown on the original plat dated February 1827, and was accepted March 18, 2009. We will place a copy of the plat we described in the open files. It will be available to the public as a matter of information.

If BLM receives a protest against this survey, as shown on the plat, prior to the date of the official filing, we will stay the filing pending our consideration of the protest.

We will not officially file the plat until the day after we have accepted or dismissed all protests and they have become final, including decisions on appeals.

Dated: April 1, 2009.
Dominica Van Koten,
Chief Cadastral Surveyor.

[FR Doc. E9-7787 Filed 4-6-09; 8:45 am]

BILLING CODE 4310-GJ-P